DEPARTMENT OF COMMERCE

International Trade Administration

[A-469-805]

Notice of Final Results of Antidumping Duty Changed Circumstances Review: Stainless Steel Bar From Spain

AGENCY: Enforcement and Compliance, International Trade Administration, Department of Commerce.

SUMMARY: On October 26, 2016, the Department of Commerce (the “Department”) published the notice of initiation and preliminary results of the changed circumstances review of the antidumping duty (“AD”) order on stainless steel bar (“SSB”) from Spain. The Department preliminarily determined that Sidenor Aceros Especiales S.L. (“Sidenor”) is the successor-in-interest to Gerdau Aceros Especiales Europa S.L. (“Gerdau”) for purposes of the AD order and, as such, is entitled to Gerdau's cash deposit rate with respect to entries of subject merchandise. We invited interested parties to comment on the Preliminary Results. As no parties submitted comments, and there is no additional information or evidence on the record, the Department is making no changes to the Preliminary Results.

DATES: Effective December 2, 2016.

FOR FURTHER INFORMATION CONTACT: Ryan Mullen, AD/CVD Operations, Office V, Enforcement and Compliance, International Trade Administration, U.S. Department of Commerce, 1401 Constitution Avenue NW., Washington, DC 20230; telephone: (202) 482-5260.

SUPPLEMENTARY INFORMATION:

Background

On September 6, 2016, Sidenor informed the Department that, effective May 20, 2016, the following occurred: (1) Gerdau S.A., the Brazilian owner of Gerdau Holdings Europa S.A.U., including its Spanish subsidiary company Gerdau, sold its European holdings to Clerbil S.L.; and (2) Clerbil S.L. renamed Gerdau Holdings Europa S.A.U. to be Sidenor Holdings Europa S.A.U.; and Gerdau, to be Sidenor, while leaving its operations mostly unchanged.¹ Citing section 751(b) of the of the Tariff Act of 1930, as amended (“the Act”) and 19 CFR 351.216, Sidenor requested that the Department initiate a changed circumstances review and determine that Sidenor is the successor-in-interest to Gerdau. On October 26, 2016, the Department initiated this changed circumstances review and published the notice of preliminary results, determining that Sidenor is the successor-in-interest to Gerdau.²

¹ See Letter to the Secretary of Commerce from Sidenor, “Stainless Steel Bar from Spain: Sidenor request for changed-circumstances review” (September 22, 2016) at 3-6.

² See Stainless Steel Bar From Spain: Initiation and Preliminary Results of Changed Circumstances Review, 81 FR 74401 (October 26, 2016) (Preliminary Results).

Scope of the Order

The merchandise subject to the order is SSB. The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to the order is currently classifiable under subheadings 7222.10.00, 7222.11.00, 7222.19.00, 7222.20.00, 7222.30.00 of the Harmonized Tariff Schedule of the United States (“HTSUS”). Although the HTSUS subheading is provided for convenience and customs purposes, our written description of the scope of this investigation is dispositive.³

³ The HTSUS numbers provided in the scope have changed since the publication of the order. See Amended Final Determination and Antidumping Duty Order: Stainless Steel Bar From Spain, 60 FR 11656 (March 2, 1995).

Final Results of Changed Circumstances Review

Because no party submitted a case brief in response to the Department's Preliminary Results, and because the record contains no other information or evidence that calls into question the Preliminary Results, the Department continues to find that Sidenor is the successor-in-interest to Gerdau, and is entitled to Gerdau's cash deposit rate with respect to entries of merchandise subject to the AD order on SSB from Spain.⁴

⁴ For a complete discussion of the Department's findings, which remain unchanged in these final results and which are herein incorporated by reference and adopted by this notice, see generally Preliminary Results.

Instructions to U.S. Customs and Border Protection

Based on these final results, we will instruct U.S. Customs and Border Protection to collect estimated antidumping duties for all shipments of subject merchandise exported by Sidenor and entered, or withdrawn from warehouse, for consumption on or after the publication of this notice in the Federal Register at the current AD cash deposit rate for Gerdau (i.e., 0 percent). This case deposit requirement shall remain in effect until further notice.

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing this final results notice in accordance with sections 751(b) and 777(i) of the Act, and 19 CFR 351.216.

Dated: November 29, 2016.
Paul Piquado,
Assistant Secretary for Enforcement and Compliance.

[FR Doc. 2016-28982 Filed 12-1-16; 8:45 am]

BILLING CODE 3510-DS-P